DEPARTMENT OF COMMERCE

National Oceanic and Atmospheric Administration

[RTID 0648-XB586]

South Atlantic Fishery Management Council; Public Meeting

AGENCY: National Marine Fisheries Service (NMFS), National Oceanic and Atmospheric Administration (NOAA), Commerce

ACTION: Notice of public meetings.

SUMMARY: The South Atlantic Fishery Management Council (Council) will hold meetings of the following: Mackerel Cobia Committee; Snapper Grouper Committee; Southeast Data, Assessment and Review (SEDAR) Committee; Citizen Science Committee; and Outreach and Communications Committee. The meeting week will also include a formal public comment session and a meeting of the Full Council (partially Closed Session).

DATES: The Council meeting will be held from 8:30 a.m. on Monday, December 6, 2021, until 12 p.m. on Friday, December 10, 2021.

ADDRESSES: Meeting address: The meeting will be held at the Beaufort Hotel, 2400 Lennoxville Road, Beaufort, NC 28516; phone: (252) 728-3000. The meeting will also be available via webinar. Registration is required. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION:

Meeting information, including agendas, overviews, and briefing book materials will be posted on the Council's website at: http://safmc.net/safmc-meetings/council-meetings/. Webinar registration links for the meeting will also be available from the Council's website.

Public comment: Public comment on agenda items may be submitted through the Council's online comment form available from the Council's website at: http://safmc.net/safmc-meetings/council-meetings/. Comments will be accepted from November 19, 2021, until December 10, 2021. These comments are accessible to the public, part of the Administrative Record of the meeting, and immediately available for Council consideration.

The items of discussion in the individual meeting agendas are as follows:

Council Session I, Monday, December 6, 2021, 8:30 a.m. Until 10 a.m. (Closed Session) and 10 a.m.-12 p.m.

The Council will review applications for open seats on its advisory panels and the Socio-Economic Sub-panel of its Scientific and Statistical Committee. Participants for the SEDAR 82 assessment addressing South Atlantic Triggerfish and for the SEDAR 76 assessment for South Atlantic Black Sea Bass will also be reviewed and approved. The Council will receive a legal briefing if needed.

The Council will then meet in Open Session to receive reports from state agencies, Council liaisons, NOAA Office of Law Enforcement, and the U.S. Coast Guard. The Council will receive an update on the review of Standardized Bycatch Reporting Methodology (SBRM) in Council Fishery Management Plans from NOAA Fisheries and recommendations on SBRM from its Scientific and Statistical Committee (SSC). Council members will review any Exempted Fishery Permit applications and additional topics as needed.

Mackerel Cobia Committee, Monday, December 6, 2021, 1:30 p.m. Until 5 p.m.

The Committee will review public hearings comments received for Coastal Migratory Pelagics (CMP) Amendment 34 addressing management measures for Atlantic king mackerel and Spanish mackerel in the South Atlantic and continue work on the amendment. The Committee will also review public hearing input received on CMP Amendment 32 addressing management measures to end overfishing for Gulf of Mexico cobia and is scheduled to recommend approval of the amendment for Secretarial review. The Committee will also review management options for draft CMP Amendment 33 addressing Gulf migratory group king mackerel.

Snapper Grouper Committee, Tuesday, December 7, 2021, 8:30 a.m. Until 5:30 p.m. and Wednesday, December 8, 2021, 8:30 a.m. Until 3:45 p.m.

The Committee will receive a presentation on the Ecopath Project on Red Snapper Recruitment including modelling team discussion and SSC comments. The Committee will discuss possible revisions to management of the Snapper Grouper fishery including framework options and items to consider for long-term management, and consider input from its Snapper Grouper Advisory Panel (AP) and the Private Recreational Reporting Workgroup. The Committee will also review a white paper on South Atlantic Snapper Grouper Commercial Fishing Permits and consider recommendations from the Snapper Grouper AP.

The Committee will receive a presentation from NOAA Fisheries Southeast Fisheries Science Center on the SEDAR 68 Scamp Research Track Assessment and review SSC recommendations. The Committee will review options and recommendations from the Snapper Grouper AP for the following draft amendments to the Snapper Grouper Fishery Management Plan (FMP): Amendment 51 addressing snowy grouper; Amendment 52 addressing golden tilefish; and Amendment 53 addressing gag, and is scheduled to approve the amendments for public scoping.

The Committee will also review proposed modifications to greater amberjack management through Amendment 49 to the Snapper Grouper FMP and is scheduled to approve the amendment for public hearings. The Committee will review public scoping comments and recommendations from the Snapper Grouper AP for Snapper Grouper Amendment 44 addressing yellowtail snapper management measures and continue work on Snapper Grouper Amendment 50 with modifications to red porgy management. The Committee will receive updates on projects for the South Atlantic Red Snapper Count and the Greater Amberjack Count in the Gulf of Mexico and South Atlantic, and review any additional recommendations from the Snapper Grouper AP.

Formal Public Comment, Wednesday, December 8, 2021, 4 p.m.—Public comment will be accepted from individuals attending the meeting on all items on the Council meeting agenda. The Council Chair will determine the amount of time provided to each commenter based on the number of individuals wishing to comment.

Council Session II, Thursday, December 9, 2021, 8 a.m. Until 9 a.m. (Closed Session)

The Council will meet in Closed Session to conduct an annual performance review of its Executive Director.

SEDAR Committee, Thursday, December 9, 2021, 9 a.m. Until 11 a.m.

The Committee will receive a report from the SEDAR Steering Committee and consider revisions to current Council processes and approvals relative to stock assessments due to changes in SEDAR. The Committee will review the Terms of Reference and schedules for the following: SEDAR 68 Scamp Operational Assessment; SEDAR 82 Gray Triggerfish Research Track Assessment; SEDAR 83 Vermillion Snapper Operational Assessment; and the SEDAR 86 Red Grouper Operational Assessment. The Committee will also review the 2024 golden Tilefish Operational Statement of Work and address stock assessment prioritization.

Citizen Science Committee, Thursday, December 9, 2021, 11 a.m. Until 12 p.m.

The Committee will receive an update on the Council's Citizen Science Program and the program's research priorities and consider approving for adoption.

Outreach and Communications Committee, Thursday, December 9, 2021, 1:30 p.m. Until 3 p.m.

The Committee will receive a report from the Outreach and Communications AP, receive an update on the status of the Sea Grant Fellowship for outreach, and receive a demonstration of the Council's new website.

Council Session III, Thursday, December 9, 2021, From 3 p.m. Until 5:30 p.m., and Friday, December 10, 2021, 8:30 a.m. Until 12 p.m.

The Council will present the 2020 Law Enforcement Officer of the Year Award, discuss any applications for Exempted Fishery Permits, consider any legal briefing, and any SSC recommendations not covered earlier, if needed. The Council will receive staff reports, a briefing on the Kitty Hawk Offshore Wind Project, and review the FMP workplan and upcoming meetings. The Committee will receive reports from earlier Council sessions and reports from the following committees: Mackerel Cobia; Snapper Grouper; SEDAR, Citizen Science, and Outreach and Communications. The Council will also receive a report from the November 2021 meeting of its Executive Committee.

The Council will receive reports from NOAA Fisheries Southeast Fisheries Science Center including an update on commercial e-logbook progress and from the Southeast Regional Office, including updates on the Southeast For-Hire Electronic Reporting Program, SAFE Report status, a protected resources update, and a blueline tilefish summary.

The Council will discuss other business, upcoming meetings, and take action as necessary.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: November 10, 2021.
Tracey L. Thompson,
Acting Deputy Director, Office of Sustainable Fisheries, National Marine Fisheries Service.

[FR Doc. 2021-24963 Filed 11-15-21; 8:45 am]

BILLING CODE 3510-22-P